DEPARTMENT OF THE INTERIOR

Fish and Wildlife Service

[FWS-R4-ES-2020-N097; FXES11140400000-201-FF04E00000]

Endangered Species; Recovery Permit Applications

AGENCY: Fish and Wildlife Service, Interior.

ACTION: Notice of receipt of permit applications; request for comments.

SUMMARY: We, the U.S. Fish and Wildlife Service, have received applications for permits to conduct activities intended to enhance the propagation or survival of endangered species under the Endangered Species Act of 1973, as amended. We invite the public and local, State, Tribal, and Federal agencies to comment on these applications. Before issuing any of the requested permits, we will take into consideration any information that we receive during the public comment period.

DATES: We must receive written data or comments on the applications by August 13, 2020.

ADDRESSES: Reviewing Documents: Documents and other information submitted with the applications are available for review, subject to the requirements of the Privacy Act and Freedom of Information Act. Submit a request for a copy of such documents to Karen Marlowe (see FOR FURTHER INFORMATION CONTACT).

Submitting Comments: If you wish to comment, you may submit comments by one of the following methods:

• U.S. mail: U.S. Fish and Wildlife Service Regional Office, Ecological Services, 1875 Century Boulevard, Atlanta, GA 30345 (Attn: Karen Marlowe, Permit Coordinator).

• Email: permitsR4ES@fws.gov. Please include your name and return address in your email message. If you do not receive a confirmation from the U.S. Fish and Wildlife Service that we have received your email message, contact us directly at the telephone number listed in FOR FURTHER INFORMATION CONTACT.

FOR FURTHER INFORMATION CONTACT: Karen Marlowe, Permit Coordinator, 404-679-7097 (telephone), karen_marlowe@fws.gov (email), or 404-679-7081 (fax). Individuals who are hearing or speech impaired may call the Federal Relay Service at 1-800-877-8339 for TTY assistance.

SUPPLEMENTARY INFORMATION: We invite review and comment from local, State, and Federal agencies and the public on applications we have received for permits to conduct certain activities with endangered and threatened species under section 10(a)(1)(A) of the Endangered Species Act of 1973, as amended (ESA; 16 U.S.C. 1531 et seq.), and our regulations in the Code of Federal Regulations (CFR) at 50 CFR part 17. With some exceptions, the ESA prohibits activities that constitute take of listed species unless a Federal permit is issued that allows such activities. The ESA's definition of “take” includes hunting, shooting, harming, wounding, or killing, and also such activities as pursuing, harassing, trapping, capturing, or collecting.

A recovery permit issued by us under section 10(a)(1)(A) of the ESA authorizes the permittee to conduct activities with endangered or threatened species for scientific purposes that promote recovery or for enhancement of propagation or survival of the species. These activities often include such prohibited actions as capture and collection. Our regulations implementing section 10(a)(1)(A) for these permits are found at 50 CFR 17.22 for endangered wildlife species, 50 CFR 17.32 for threatened wildlife species, 50 CFR 17.62 for endangered plant species, and 50 CFR 17.72 for threatened plant species.

Permit Applications Available for Review and Comment

Proposed activities in the following permit requests are for the recovery and enhancement of propagation or survival of the species in the wild. The ESA requires that we invite public comment before issuing these permits. Accordingly, we invite local, State, Tribal, and Federal agencies and the public to submit written data, views, or arguments with respect to these applications. The comments and recommendations that will be most useful and likely to influence agency decisions are those supported by quantitative information or studies.

Before including your address, phone number, email address, or other personal identifying information in your comment, you should be aware that your entire comment—including your personal identifying information—may be made publicly available at any time. While you can ask us in your comment to withhold your personal identifying information from public review, we cannot guarantee that we will be able to do so.

Permit application No. | Applicant | Species | Location | Activity | Type of take | Permit action
TE 18825B-1 | Timothy Savidge, Durham, NC | FISH: Amber darter (Percina antesella), blue shiner (Cyprinella caerulea), Cape Fear shiner (Notropis mekistocholas), Carolina madtom (Noturus furiosus), Cherokee darter (Etheostoma scotti), Conasauga logperch (Percina jenkinsi), Etowah darter (Etheostoma etowahae), goldline darter (Percina aurolineata), Roanoke logperch (Percina rex), and snail darter (Percina tanasi); MUSSELS: Altamaha spinymussel (Elliptio spinosa), Appalachian elktoe (Alasmidonta raveneliana), Carolina heelsplitter (Lasmigona decorata), Chipola slabshell (Elliptio chipolaensis), Coosa moccasinshell (Medionidus parvulus), Cumberland bean (Villosa trabalis), dwarf-wedge mussel (Alasmidonta heterodon), fat three-ridge (Amblema neislerii), finelined pocketbook (Lampsilis altilis), Georgia pigtoe (Pleurobema hanleyianum), Gulf moccasinshell (Medionidus penicillatus), James spinymussel (Pleurobema collina), littlewing pearlymussel (Pegias fabula), oval pigtoe (Pleurobema pyriforme), oyster mussel (Epioblasma capsaeformis), purple bankclimber (Elliptoideus slotianus), shinyrayed pocketbook (Lampsilis subangulata), southern acornshell (Epioblasma othcaloogensis), southern clubshell (Pleurobema decisum), southern pigtoe (Pleurobema georgianum), tan riffleshell (Epioblasma florentina walkeri), tar spinymussel (Elliptio steinstansanna), upland combshell (Epioblasma metastriata), and yellow lance (Elliptio lanceolata) | Alabama, Georgia, North Carolina, South Carolina | Presence/absence surveys | Fish: Capture with hand nets and seines, handle, identify, and release; Mussels: Capture, handle, identify, release, and salvage relict shells | Renewal and Amendment.
TE 75524D-0 | Daniel Magoulick, U.S. Geological Survey, Fayetteville, AR | Yellowcheek darter (Etheostoma moorei) | Arkansas | Assessment of habitat selection | Capture via kick seine, handle, identify, and release | New.
TE 21809A-3 | Monica Folk, Kissimmee, FL | Red-cockaded woodpecker (RCW; Picoides borealis) and Florida scrub jays (Aphelocoma coerulescens) | Alabama, Arkansas, Florida, Georgia, Louisiana, Mississippi, Missouri, North Carolina, South Carolina | Population management and monitoring | RCW: Capture, band, monitor nest cavities, construct and monitor artificial nest cavities and restrictors, and translocate; Florida scrub jay: capture, band, and monitor nests | Renewal.
TE 56749B-4 | Patrick Moore, Harrison, AR | Indiana bat (Myotis sodalis) and northern long-eared bat (Myotis septentrionalis) | Connecticut, Maine, Massachusetts, Montana, Nebraska, New Hampshire North Dakota, Rhode Island, South Dakota, and Wyoming | Presence/absence surveys, studies to document habitat use, and population monitoring | Enter hibernacula and maternity roost caves, capture with mist nets or harp traps, handle, identify, collect hair samples, band, radio-tag, light-tag, swab, and wing-punch | Amendment.
TE 75914D-0 | North Carolina State Parks, Raleigh, NC | Spruce-fir moss spider (Microhexura montivaga) | Grandfather Mountain State Park and Mount Mitchell State Park, North Carolina | Presence/absence surveys, population monitoring | Capture, handle, identify, photograph, and release | New.
TE 76153D-0 | Jaime Collazo, North Carolina State University, Raleigh, NC | Llanero coqui (Eleutherodactylus juanariveroi) | Puerto Rico | Genetic structure and diversity research and thermal limit research | Remove from the wild for temporary holding in captivity of up to 14 individuals for CTMax experiments; removal from the wild and euthanasia of up to 50 individuals for genetic research | New.
TE 37219B-2 | Roger Perry, U.S. Forest Service, Hot Springs, AR | Gray bat (Myotis grisescens), Indiana bat (Myotis sodalis), and northern long-eared bat (Myotis septentrionalis) | Arkansas, Louisiana, and Oklahoma | Presence/absence surveys and studies to document habitat use | Enter hibernacula or maternity roost caves, capture with mist nets, handle, identify, band, radio-tag, collect hair, light-tag, wing-punch, and salvage | Renewal.

Authority

We publish this notice under section 10(c) of the Endangered Species Act of 1973, as amended (16 U.S.C. 1531 et seq.).

John Tirpak,
Deputy Assistant Regional Director, Ecological Services.

[FR Doc. 2020-15180 Filed 7-13-20; 8:45 am]

BILLING CODE 4333-15-P